INTERNATIONAL TRADE COMMISSION

[Investigation No. 337-TA-1038]

Certain Electronic Devices, Including Mobile Phones, Tablet Computers, and Components Thereof; Institution of Investigation

AGENCY: U.S. International Trade Commission

ACTION: Notice.

SUMMARY: Notice is hereby given that a complaint was filed with the U.S. International Trade Commission on December 22, 2016, under section 337 of the Tariff Act of 1930, as amended, 19 U.S.C. 1337, on behalf of Nokia Technologies Oy of Espoo, Finland. Supplements to the complaint were filed on January 3 and 4, 2017. The complaint alleges violations of section 337 based upon the importation into the United States, the sale for importation, and the sale within the United States after importation of certain electronic devices, including mobile phones, tablet computers, and components thereof by reason of infringement of U.S. Patent No. 7,415,247 (“the '247 patent”); U.S. Patent No. 9,270,301 (“the '301 patent”); U.S. Patent No. 6,393,260 (“the '260 patent”); U.S. Patent No. 8,036,619 (“the '619 patent”); U.S. Patent No. 6,826,391 (“the '391 patent”); U.S. Patent No. 6,480,700 (“the '700 patent”); U.S. Patent No. 9,473,602 (“the '602 patent”); and U.S. Patent No. 7,653,366 (“the '366 patent”). The complaint further alleges that an industry in the United States exists as required by subsection (a)(2) of section 337.

The complainant requests that the Commission institute an investigation and, after the investigation, issue a limited exclusion order and a cease and desist order.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on January 23, 2017, ordered that—

(1) Pursuant to subsection (b) of section 337 of the Tariff Act of 1930, as amended, an investigation be instituted to determine whether there is a violation of subsection (a)(1)(B) of section 337 in the importation into the United States, the sale for importation, or the sale within the United States after importation of certain electronic devices, including mobile phones, tablet computers, and components thereof by reason of infringement of one or more of claims 18, 19, 21, and 23 of the '247 patent; claims 1-11, 13-41, and 43-122 of the '301 patent; claims 6, 8, 10, and 11 of the '260 patent; claims 1, 3-7, 9-12, 18-21, 23, 24, 31, 37, 38, 46-51, 53, 54, 58-61, 68-74, 76-80, 82, and 83 of the '619 patent; claims 1-14, 16-21, 23, and 24 of the '391 patent; claims 1-6, 10, and 16 of the '700 patent; claims 1, 6-15, 17, 18, 22, and 27-36 of the '602 patent; and claims 1, 2, 4-7, 11-14, 17-21, and 23 of the '366 patent, and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainant is: Nokia Technologies Oy, Karaportti 3, FIN-02610, Espoo, Finland.

(b) The respondent is the following entity alleged to be in violation of section 337, and is the party upon which the complaint is to be served: Apple Inc., a/k/a Apple Computer, Inc., 1 Infinite Loop, Cupertino, CA 95014.

(c) The Office of Unfair Import Investigations, U.S. International Trade Commission, 500 E Street SW., Suite 401, Washington, DC 20436; and

(4) For the investigation so instituted, the Chief Administrative Law Judge, U.S. International Trade Commission, shall designate the presiding Administrative Law Judge.

Notwithstanding any Commission Rules to the contrary, which are hereby waived, the presiding Administrative Law Judge may, by order, sever part of this investigation so as to create two or more smaller investigations. If the presiding Administrative Law Judge severs part of the investigation, the Chief Administrative Law Judge, in his discretion, may reassign the original and/or the severed investigations to different presiding Administrative Law Judges. If the investigation is severed, the presiding Administrative Law Judge may set a target date of up to 18 months for the original and the severed investigations by order. The public interest delegation in paragraph (2) above shall apply to the original and any severed investigations. The Office of Unfair Import Investigations shall inform the Chief Administrative Law Judge and the Office of Docket Services of the new investigation number for any severed investigation.

Responses to the complaint and the notice of investigation must be submitted by the named respondent in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 24, 2017.
Lisa R. Barton,
Secretary to the Commission.

[FR Doc. 2017-01854 Filed 1-26-17; 8:45 am]

BILLING CODE 7020-02-P